DEPARTMENT OF ENERGY

Notice of Availability of Solicitation

AGENCY: Albuquerque Operations Office, Department of Energy.

ACTION: Notice of availability of solicitation—natural gas vehicle exhaust particle sampling study.

SUMMARY: The U.S. Department of Energy (DOE), Albuquerque Operations Office (AL), is seeking applications for research and development for natural gas-powered vehicle exhaust particle sampling study. Through this solicitation, DOE seeks to measure representative particle size distributions of both light-duty and heavy-duty natural gas powered vehicle exhaust and collect samples of toxicity sampling. A DOE technical panel will perform a scientific and engineering evaluation of each responsive application to determine the merit of the approach. DOE anticipates issuing one or more financial assistance instruments from this solicitation. A maximum of $500,000 of DOE funding is anticipated to be available. Cost sharing by the applicant is desired.

DATE: Applications are to be received no later than 3 p.m. local prevailing time on October 2, 2000. Any application received after the due date will not be evaluated.

FOR FURTHER INFORMATION CONTACT: Erwin E. Fragua, Contract Specialist, DOE/AL, at (505) 845-6442 or by e-mail at efragua@doeal.gov.

SUPPLEMENTARY INFORMATION: The solicitation will be available on the internet on or about August 23, 2000 at the following web site: http://www.doeal.gov/cpd/default.htm. Applications must be prepared and submitted in accordance with the instructions and forms contained in the solicitation. For profit and not-for-profit organizations, state and local governments, Indian tribes, and institutions of higher learning are eligible for awards under this solicitation. Collaboration between industry, industry organizations, and universities are encouraged.

Issued in Albuquerque, New Mexico August 18, 2000.
Martha L. Youngblood,
Contracting Officer, Complex Support Branch, Contracts and Procurement Division.

[FR Doc. 00-21755 Filed 8-24-00; 8:45 am]

BILLING CODE 6450-01-P